DEPARTMENT OF COMMERCE

International Trade Administration

19 CFR Part 360

[Docket No.: 040305083-5249-03]

RIN 0625-AA64

Steel Import Monitoring and Analysis System

AGENCY: Import Administration, International Trade Administration, Department of Commerce.

ACTION: Final rule.

SUMMARY: The Department of Commerce publishes this action to make final an interim final rule that extended and expanded the Steel Import Monitoring and Analysis (SIMA) system until March 21, 2009. This action also expands the list of covered items to include all basic steel mill products, but it also removes certain downstream steel products, which were formerly covered products (certain fittings and flanges, certain cold formed shapes, and certain bars). The purpose of the SIMA system is to provide statistical data on steel imports entering the United States seven weeks earlier than is otherwise publicly available. The data collected on the licenses are made available to the public in an aggregated form weekly after Commerce review.

DATES: This final rule is effective December 5, 2005.

FOR FURTHER INFORMATION CONTACT: For information on the SIMA system, please contact Kelly Parkhill (202) 482-3791; Julie Al-Saadawi (202) 482-1930.

SUPPLEMENTARY INFORMATION: The SIMA system (formerly referred to as Steel Monitoring and Analysis system) was originally outlined in the President's March 5, 2002, Proclamation about Steel Safeguards, which also placed tariffs temporarily on many steel imports and provided the steel industry time to restructure. The monitoring system outlined in the President's Proclamation required all importers of steel products to obtain a license from the Department of Commerce prior to completing their Customs import summary documentation. The original intent was to provide a monitoring tool to ensure that the effectiveness of the safeguard was not undermined by large quantities of imports originating from countries that were excluded from the tariffs. On December 4, 2003, the President issued a proclamation that terminated the steel safeguard measures, but directed the Secretary of Commerce to continue the monitoring system until the earlier of March 21, 2005, or such time as the Secretary of Commerce establishes a replacement program. On December 9, 2003, the Department of Commerce published a notice stating that the system would continue in effect as described in the Proclamation until March 21, 2005 (68 FR 68594).

On August 25, 2004, the Department published an advanced notice of proposed rulemaking soliciting comments from the public on whether to continue the monitoring system beyond March 21, 2005 (69 FR 52211) and, if extended, whether the system should be modified in any way. The Department received a number of submissions from a wide range of interested parties, including steel producers, steel consumers, steel suppliers, and importers as well as Congressional and foreign interests. On March 11, 2005, the Department published an interim final rule responding to these comments from the public and implementing a slightly expanded version of SIMA until March 21, 2009. The Department received forty-two submissions from a wide range of interested parties. Please refer to the SIMA system's Web site to read the comments on the Interim Rule and for further information about the SIMA system: http://ia.ita.doc.gov/steel/license/.

Final Rule

The purpose of the SIMA system is to collect timely detailed statistics on steel imports and to provide stakeholders with information about import trends in this sector. The SIMA system aggregates detailed import statistics it collects from internet-generated licenses and makes the data available for public analysis on a weekly basis. The data gathering procedure through the online licensing system remains the same as it was described in the interim final rule. While the import monitor will continue to display aggregate statistical tables and graphs of U.S. steel imports combining data from the Census Bureau with data collected from the licensing system, it will be altered somewhat in response to comments received. However, these modifications do not require regulatory action and have no impact on the interim regulations, which will be finalized without changes.

As stated in the interim final rule, the Department extended the SIMA system for a period of four years beginning March 21, 2005 (see 19 CFR 360). The Department has also expanded the coverage of the system to include all basic steel mill products and will release aggregate licensing data at the 6-digit Harmonized Tariff Schedule (HTS) product level detail on the monitoring Web site.

In response to a number of comments received, the Department plans to make some changes in the monitoring section. The Department intends to add certain downstream steel products, identified during the comment period. These additional products will be available on the SIMA import monitoring Web site and will cover publicly available data only. The Department also intends to include export data and possibly domestic shipment data, which would provide an indicator of apparent consumption of steel in the United States. In addition, the Department plans to provide import data broken out by carbon, alloy, and stainless grades.

Comments

Submissions received during the public comment period established in the interim final rule have been considered in preparing this final rule. Forty-two submissions were received from a wide range of sources: members of Congress, consumers, producers, and importers. Nearly all of the comments were supportive of extension and expansion of the SIMA system to steel mill products and agreed that it is a critical tool that helps the industry to closely monitor steel imports. The comments are summarized below and listed in order of their frequency:

Comment 1: Expansion of the SIMA system to include various downstream steel products—The majority of the submitted comments supported expansion of the SIMA system to include downstream steel products, particularly downstream steel wire products such as steel wire strand and rope and cables (HTS 7312), barbed wire (HTS 7313), steel wire cloth, grill, netting, and fencing (HTS 7314), steel wire nails and staples (HTS 7317), steel springs (HTS 7320), and steel wire garment hangers (HTS 7326.20.0020). A small number of commenters stated that butt-weld fittings and flanges should be covered in the new SIMA system and that the Department should provide import data broken out by carbon, alloy, and stainless grades.

Response 1: The Department will not expand coverage of the SIMA system to require licensing for the requested downstream steel products. Although the Department recognizes that certain segments of the steel industry are interested in the Department's licensing and monitoring of these downstream steel products, the sheer volume of entries associated with many of these downstream steel products (nails and staples, springs, fittings and flanges and wire hangers) greatly increases the burden of the system on the trading community and could potentially overwhelm the SIMA system. However, in response to the comments received, the Department intends to include publicly available import data for these products in a separate section of the SIMA monitoring system. The Department also intends to provide import data broken out by carbon, alloy, and stainless steel grades.

Comment 2: Additional Data on Steel Exports and Shipments—The Department received a comment in one of the early comment periods that requests the Department to provide statistics on steel availability. The commenter wants to see shipment data and export data in addition to imports. By including all three concepts, the commenter argues, the SIMA system would paint a better picture of the available steel supply in the U.S. than relying only on imports.

Response 2: In addition to import data, the Department intends to provide certain publicly available steel export data in the SIMA monitoring system. The Department is also exploring the possibility of reporting domestic shipment data to provide an indicator of U.S. apparent consumption. These changes to the SIMA system do not involve regulatory changes and do not affect the interim regulations.

Comment 3: Reporting Level—A number of the submissions requested that the level of product detail presented in the monitor should be at the 10-digit HTS level. The commenters voiced concerns over reporting at the 6-digit HTS level stating that the product's features and use are often not revealed at the 6-digit HTS levels. Several commenters also suggested that the Department should aggregate data by port of entry.

Response 3: The Department will continue to report aggregate data at the 6-digit HTS level only. The Department does not intend to publish data in any greater product detail than at the 6-digit HTS level because of the possibility of inadvertent release of proprietary information. The Department does not intend to release aggregate port of entry data for the same reason. However, the Department will publish historical percentage allocations for 6-digit HTS codes to the aggregate steel categories to assist users in their analysis of the data.

Comment 4: Foreign Trade Zones (FTZ)-A number of commenters requested that the steel licensing requirement should remain a requirement at the time of admission to a FTZ and not upon Customs entry into the U.S. Customs territory.

Response 4: The Department will continue to require a license from importers who bring steel to an FTZ only when it is first entered into the FTZ. The Department acknowledges the difficulty of identifying specific steel components upon exit of the steel product from the FTZ into the U.S. economy.

Comment 5: Blanket License—A few commenters stated that the current system should allow blanket licenses.

Response 5: The Department does not intend to make blanket licenses available. The Department is pleased to report that the data collected from the licensing system matches closely the Census data when it is published several weeks after the SIMA release. If the Department were to allow users to file blanket licenses, it would be difficult to reconcile other data with the licensing data and the accuracy of the monitoring system would deteriorate.

Comment 6: Text file of raw data—A number of commenters requested that the Department release data in a text format that includes both quantity and value data.

Response 6: The Department intends to publish a 6-column text file on its Web site and update it weekly. This text file would be composed of country, HTS code, quantity, value, price, and month of importation.

On June 9, 2005, the product coverage of the SIMA system expanded to include all basic steel mill products (which are listed in full in the annex). At the same time certain downstream steel products, which were formerly covered products (certain fittings and flanges, certain cold formed shapes, and certain bars) were removed from the licensing requirement. Please refer to the SIMA Web site for a full listing of the detailed product code changes and requirements.

For the reasons discussed above, the interim rule (19 CFR 360) published on March 11, 2005 (70 FR 12133) is finalized without changes.

Classification

Executive Order 12866

This rule has been determined to be significant for purposes of Executive Order 12866.

Executive Order 13132

This rule does not contain policies with federalism implications as that term is defined in EO 13132.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

Paperwork Reduction Act

This final rule contains collection-of-information requirements subject to review and approval by OMB under the Paperwork Reduction Act (PRA). These requirements have been approved by OMB (OMB No.: 0625-0245; Expiration Date: 06/30/2008). Public reporting for this collection of information is estimated to be less than 10 minutes per response, including the time for reviewing instructions, and completing and reviewing the collection of information. All responses to this collection of information are voluntary, and will be provided confidentially to the extent allowed by law.

Notwithstanding any other provision of law, no person is required to respond to, nor shall any person be subject to a penalty for failure to comply with a collection of information subject to the Paperwork Reduction Act unless that collection displays a currently valid OMB Control Number.

Dated: November 28, 2005.
Peter Lichtenbaum,
Acting Deputy Under Secretary for International Trade.

Annex: SIMA System Product Coverage—Basic Steel Mill Products. Harmonized Tariff System (HTS) Codes Listed Below

Ingots and Steel for Castings

7206100000, 7206900000, 7218100000, 7224100005, 7224100075

Blooms, Billets and Slabs

7207110000, 7207120010, 7207120050, 7207190030, 7207190090, 7207200025, 7207200045, 7207200075, 7207200090, 7218910015, 7218910030, 7218910060, 7218990015, 7218990030, 7218990045, 7218990060, 7218990090, 7224900005, 7224900045, 7224900055, 7224900065, 7224900075

Wire Rods

7213913000, 7213913010, 7213913011, 7213913015, 7213913090, 7213913091, 7213913092, 7213914500, 7213914510, 7213914590, 7213916000, 7213916010, 7213916090, 7213990030, 7213990031, 7213990038, 7213990090, 7221000015, 7221000030

Structural Shapes Heavy

7216310000, 7216320000, 7216330030, 7216330060, 7216330090, 7216400010, 7216400050, 7216500000, 7216990000, 7216990010, 7216990090, 7222403025, 7222403045, 7228703020, 7228703040

Steel Piling

7301100000

Plates Cut Lengths

7208403030, 7208403060, 7208510030, 7208510045, 7208510060, 7208520000, 7210901000, 7211130000, 7211140030, 7211140045, 7219210005, 7219210020, 7219210040, 7219210050, 7219210060, 7219220005, 7219220010, 7219220015, 7219220020, 7219220025, 7219220030, 7219220035, 7219220040, 7219220045, 7219220060, 7219220070, 7219220075, 7219220080, 7219310050, 7220110000, 7225403005, 7225403050, 7225506000, 7226915000

Plates in Coils

7208101500, 7208103000, 7208253000, 7208256000, 7208360030, 7208360060, 7208370030, 7208370060, 7211140090, 7219110000, 7219110030, 7219110060, 7219120002, 7219120006, 7219120021, 7219120026, 7219120045, 7219120051, 7219120056, 7219120066, 7219120071, 7219120081, 7219310010, 7225303005, 7225303050

Rails Standard

7302101010, 7302101035, 7302105020

Rails All Other

7302101015, 7302101025, 7302101045, 7302101055

Railroad Accessories

7302200000, 7302400000, 7302901000

Bars—Hot Rolled

7213200000, 7213200010, 7213200080, 7213990060, 7214100000, 7214300000, 7214300010, 7214300080, 7214910015, 7214910060, 7214910090, 7214990015, 7214990030, 7214990045, 7214990060, 7214990075, 7214990090, 7215901000, 7221000005, 7221000045, 7221000075, 7222110005, 7222110050, 7222190005, 7222190050, 7227200000, 7227200010, 7227200020, 7227200090, 7227200095, 7227906005, 7227906050, 7227906051, 7227906053, 7227906058, 7227906059, 7228201000, 7228308005, 7228308050, 7228400000, 7228606000, 7228800000, 7228703010, 7228703041, 7228703081

Bars—Light Shapes

7216100010, 7216100050, 7216210000, 7216220000, 7222403065, 7222403085, 7228703060, 7228703080

Bars—Reinforcing

7213100000, 7214200000

Bars—Cold Finished

7215100000, 7215100010, 7215100080, 7215500015, 7215500060, 7215500090, 7215903000, 7215905000, 7222200005, 7222200045, 7222200075, 7222300000, 7228205000, 7228505005, 7228505050, 7228608000

Tool Steel

7224100045, 7224900015, 7224900025, 7224900035, 7225200000, 7225301000, 7225305030, 7225305060, 7225401015, 7225401090, 7225405030, 7225405060, 7225501030, 7225501060, 7226200000, 7226910500, 7226911530, 7226911560, 7226912530, 7226912560, 7226921030, 7226921060, 7226923030, 7226923060, 7227100000, 7227901030, 7227901060, 7227902030, 7227902060, 7228100010, 7228100030, 7228100060, 7228302000, 7228304000, 7228306000, 7228501010, 7228501020, 7228501040, 7228501060, 7228501080, 7228601030, 7228601060, 7229100000

Standard Pipe

7304390016, 7304390020, 7304390024, 7304390036, 7304390048, 7304390062, 7304390076, 7304390080, 7304598010, 7304598015, 7304598030, 7304598045, 7304598060, 7304598080, 7306305025, 7306305028, 7306305032, 7306305040, 7306305055, 7306305085, 7306305090

Oil Country Goods

7304213000, 7304216030, 7304216045, 7304216060, 7304291010, 7304291020, 7304291030, 7304291040, 7304291050, 7304291060, 7304291080, 7304292010, 7304292020, 7304292030, 7304292040, 7304292050, 7304292060, 7304292080, 7304293010, 7304293020, 7304293030, 7304293040, 7304293050, 7304293060, 7304293080, 7304294010, 7304294020, 7304294030, 7304294040, 7304294050, 7304294060, 7304294080, 7304295015, 7304295030, 7304295045, 7304295060, 7304295075, 7304296015, 7304296030, 7304296045, 7304296060, 7304296075, 7305202000, 7305204000, 7305206000, 7305208000, 7306201030, 7306201090, 7306202000, 7306203000, 7306204000, 7306206010, 7306206050, 7306208010, 7306208050

Line Pipe

7304101020, 7304101030, 7304101045, 7304101060, 7304101080, 7304105020, 7304105050, 7304105080, 7305111030, 7305111060, 7305115000, 7305121030, 7305121060, 7305125000, 7305191030, 7305191060, 7305195000, 7306101010, 7306101013, 7306101014, 7306101015, 7306101019, 7306101050, 7306101053, 7306101054, 7306101055, 7306101059, 7306105010, 7306105013, 7306105014, 7306105015, 7306105019, 7306105050, 7306105053, 7306105054, 7306105055, 7306105059

Mechanical Tubing

7304313000, 7304316050, 7304390028, 7304390032, 7304390040, 7304390044, 7304390052, 7304390056, 7304390068, 7304390072, 7304511000, 7304515060, 7304591000, 7304596000, 7304598020, 7304598025, 7304598035, 7304598040, 7304598050, 7304598055, 7304598065, 7304598070, 7304905000, 7304907000, 7306301000, 7306305015, 7306305020, 7306305035, 7306501000, 7306505030, 7306505050, 7306505070, 7306605000, 7306607060

Pressure Tubing

7304316010, 7304390002, 7304390004, 7304390006, 7304390008, 7304515015, 7304515045, 7304592030, 7304592040, 7304592045, 7304592055, 7304592060, 7304592070, 7304592080, 7306305010, 7306505010

Stainless Pipe & Tubing

7304413005, 7304413015, 7304413045, 7304416005,7304416015, 7304416045, 7304490005, 7304490015, 7304490045, 7304490060, 7306401010, 7306401015, 7306401090, 7306405005, 7306405015, 7306405040, 7306405042, 7306405044, 7306405062, 7306405064, 7306405080, 7306405085, 7306405090, 7306607030

Pipe & Tubing Nonclassified

7304515005, 7305901000, 7305905000, 7306901000, 7306905000

Structural Pipe & Tubing

7304901000, 7304903000, 7305312000, 7305314000, 7305316000, 7306303000, 7306503000, 7306601000, 7306603000

Pipe for Piling

7305391000, 7305395000

Wire Drawn

7217101000, 7217102000, 7217103000, 7217104030, 7217104090, 7217105030, 7217105090, 7217106000, 7217107000, 7217108010, 7217108020, 7217108025, 7217108030, 7217108045, 7217108060, 7217108075, 7217108090, 7217109000, 7217201500, 7217203000, 7217204510, 7217204520, 7217204530, 7217204540, 7217204550, 7217204560, 7217204570, 7217204580, 7217206000, 7217207500, 7217301530, 7217301560, 7217303000, 7217304504, 7217304510, 7217304511, 7217304520, 7217304530, 7217304540, 7217304541, 7217304550, 7217304560, 7217304590, 7217306000, 7217307500, 7217905030, 7217905060, 7217905090, 7223001015, 7223001030, 7223001045, 7223001060, 7223001075, 7223005000, 7223009000, 7229200000, 7229200010, 7229200015, 7229200090, 7229901000, 7229905006, 7229905008, 7229905015, 7229905016, 7229905030, 7229905031, 7229905050, 7229905051, 7229909000

Black Plate

7209182510, 7209182520, 7209182550, 7209182580

Tin Plate

7210110000, 7210120000, 7212100000

Tin Free Steel

7210500000

Sheets Hot Rolled

7208106000, 7208260030, 7208260060, 7208270030, 7208270060, 7208380015, 7208380030, 7208380090, 7208390015, 7208390030, 7208390090, 7208406030, 7208406060, 7208530000, 7208540000, 7208900000, 7219130002, 7219130031, 7219130051, 7219130071, 7219130081, 7219140030, 7219140065, 7219140090, 7219230030, 7219230060, 7219240030, 7219240060, 7225307000, 7225407000

Sheets Cold Rolled

7209150000, 7209160030, 7209160060, 7209160070, 7209160090, 7209160091, 7209170030, 7209170060, 7209170070, 7209170090, 7209170091, 7209181530, 7209181560, 7209186000, 7209186020, 7209186090, 7209250000, 7209260000, 7209270000, 7209280000, 7209900000, 7210703000, 7219320005, 7219320020, 7219320025, 7219320035, 7219320036, 7219320038, 7219320042, 7219320044, 7219320045, 7219320060, 7219330005, 7219330020, 7219330025, 7219330035, 7219330036, 7219330038, 7219330042, 7219330044, 7219330045, 7219330070, 7219330080, 7219340005, 7219340020, 7219340025, 7219340030, 7219340035, 7219340050, 7219350005, 7219350015, 7219350030, 7219350035, 7219350050, 7219900010, 7219900020, 7219900025, 7219900060, 7219900080, 7225507000, 7225508010, 7225508015, 7225508085, 7225990010, 7225990090

Sheets & Strip Galv Hot Dipped

7210410000, 7210490030, 7210490090, 7210706060, 7212301030, 7212301090, 7212303000, 7212305000, 7225920000, 7226940000

Sheets & Strip Galv Electrolytic

7210300030, 7210300060, 7210706030, 7212200000, 7225910000, 7226930000

Sheets & Strip All Other Metallic CTD

7210200000, 7210610000, 7210690000, 7210706090, 7210906000, 7210909000, 7212500000, 7212600000

Sheets & Strip—Electrical

7225110000, 7225190000, 7226111000, 7226119030, 7226119060, 7226191000, 7226199000

Strip—Hot Rolled

7211191500, 7211192000, 7211193000, 7211194500, 7211196000, 7211197530, 7211197560, 7211197590, 7220121000, 7220125000, 7226917000, 7226918000

Strip—Cold Rolled

7211231500, 7211232000, 7211233000, 7211234500, 7211236030, 7211236060, 7211236075, 7211236085, 7211292030, 7211292090, 7211294500, 7211296030, 7211296080, 7211900000, 7212401000, 7212405000, 7220201010, 7220201015, 7220201060, 7220201080, 7220206005, 7220206010,7220206015, 7220206060, 7220206080, 7220207005, 7220207010, 7220207015, 7220207060, 7220207080, 7220208000, 7220209030, 7220209060, 7220900010, 7220900015, 7220900060, 7220900080, 7226925000, 7226927005, 7226927050, 7226928005, 7226928050, 7226990000

[FR Doc. 05-23627 Filed 12-2-05; 8:45 am]

BILLING CODE 3510-DS-P